DEPARTMENT OF COMMERCE

National Oceanic and Atmospheric Administration

[RTID 0648-XE704]

Marine Mammals; File No. 22095

AGENCY: National Marine Fisheries Service (NMFS), National Oceanic and Atmospheric Administration (NOAA), Commerce.

ACTION: Notice; issuance of permit amendment.

SUMMARY: Notice is hereby given that a major amendment to Permit No. 22095-01 has been issued to SeaWorld LLC (6240 Sea Harbor Drive, Orlando, Florida 32821).

ADDRESSES: The permit amendment and related documents are available for review upon written request via email to NMFS.Pr1Comments@noaa.gov.

FOR FURTHER INFORMATION CONTACT: Courtney Smith, Ph.D., or Jennifer Skidmore, (301) 427-8401.

SUPPLEMENTARY INFORMATION: On January 21, 2025, notice was published in the Federal Register (90 FR 7101) that NMFS proposed an amendment to Permit No. 22095-01 (75 FR 27418, April 17, 2024) for the permit holder to continue conducting research and enhancement activities on one stranded, non-releasable beluga whale (Delphinapterus leucas; “Tyonek”/NOA0010477) from the endangered Cook Inlet distinct population segment (DPS) under a 6-month permit extension. The extended permit allows additional processing of an updated, new application (File No. 28286) submitted by the permit holder for continued research and enhancement activities on Tyonek (89 FR 102117, December 17, 2024). The amended permit No. 22095-02 expires on September 15, 2025.

The permit amendment has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222 through 226).

In compliance with the National Environmental Policy Act of 1969 (42 U.S.C. 4321 et seq.), a final determination was made that the activity proposed under the original permit (No. 22095) is categorically excluded from the requirement to prepare an environmental assessment or environmental impact statement (84 FR 15595, April 16, 2019).

As required by the ESA, issuance of the original permit, as amended, was based on a finding that such permit: (1) was applied for in good faith; (2) will not operate to the disadvantage of such endangered species; and (3) is consistent with the purposes and policies set forth in section 2 of the ESA.

Dated: March 18, 2025.
Amy Sloan,
Acting Chief, Permits and Conservation Division, Office of Protected Resources, National Marine Fisheries Service.

[FR Doc. 2025-04883 Filed 3-20-25; 8:45 am]

BILLING CODE 3510-22-P